FEDERAL COMMUNICATIONS COMMISSION

47 CFR Part 64

[CG Docket No. 02-278; DA 02-3554]

Telephone Consumer Protection Act (TCPA) of 1991

AGENCY: Federal Communications Commission.

ACTION: Proposed rule; extension of time to file reply comments.

SUMMARY: On September 18, 2002, the Commission released a document (67 FR 62667, October 8, 2002) seeking comment on whether it should change its rules restricting telemarketing calls and facsimile advertisements. This document extends the time to file reply comments in our TCPA proceeding in CG Docket No. 02-278.

DATES: Reply comments are due in this proceeding on January 31, 2003.

ADDRESSES: Parties who choose to file comments by paper must file an original and four copies with the Commission's Secretary, Marlene H. Dortch, Office of the Secretary, Federal Communications Commission, 445 12th Street, SW., Room TW-A325, Washington, DC 20554. Comments may also be filed using the Commission's Electronic Filing System, which can be accessed via the Internet at www.fcc.gov/e-file/ecfs.html.

FOR FURTHER INFORMATION CONTACT: Erica H. McMahon or Richard D. Smith, Policy Division, Consumer & Governmental Affairs Bureau, (202) 418-2512.

SUPPLEMENTARY INFORMATION: When the Commission released its Notice of Proposed Rulemaking (Notice) on September 18, 2002, the Federal Trade Commission (FTC) had proposed a number of amendments to its Telemarketing Sales Rule, but had not yet adopted rules based on its proposal. The notice explained that the Commission has the option to seek further comment to fully address the interplay between final FTC action and possible Commission action. On December 18, 2002, the FTC released rules establishing a national do-not-call registry and making other changes to its Telemarketing Sales Rule. In the order, the FTC notes that implementation of its do-not-call registry is contingent upon funding from Congress.

To ensure that all interested parties have ample opportunity to comment on possible Commission action in light of the FTC's recent order, the Consumer & Governmental Affairs Bureau (CGB) extends the reply comment period until January 31, 2003.

Federal Communications Commission.
Margaret M. Egler,
Deputy Chief, Consumer & Governmental Affairs Bureau.

[FR Doc. 02-32649 Filed 12-24-02; 8:45 am]

BILLING CODE 6712-01-P